DEPARTMENT OF THE INTERIOR

National Park Service

Draft General Management Plan and Environmental Impact Statement, Hampton National Historic Site, Maryland

AGENCY: National Park Service, Department of the Interior.

ACTION: Notice of Availability of the Draft General Management Plan and Environmental Impact Statement for Hampton National Historic Site, Maryland.

SUMMARY: Pursuant to the National Environmental Policy Act of 1969, 42 U.S.C. 4332 (2) (C), the National Park Service (NPS) announces the availability of the Draft Environmental Impact Statement for the General Management Plan (Draft GMP/EIS) for Hampton National Historic Site, Maryland. The purpose of the Draft GMP/EIS is to provide a clear definition of the park's purpose, significance, fundamental resources and values, and the direction that will guide and coordinate all subsequent planning and management.

DATES: The National Park Service will accept comments on the Draft GMP/EIS from the public for 60 days from the date the Environmental Protection Agency publishes their Notice of Availability in the Federal Register. Public meetings will be held during the 60-day review period to solicit comments on the Draft GMP/EIS. Dates, times, and locations will be announced on the NPS Planning, Environment, and Public Comment (PEPC) Web site (http://parkplanning.nps.gov/hamp), the park website (http://www.nps.gov/hamp), in local papers, and can also be obtained by contacting the park at (410) 823-1309.

ADDRESSES: Copies of the Draft GMP/EIS will be available for public review and comment online at the NPS PEPC Web site (http://parkplanning.nps.gov/hamp), and at the park's Web site (http://www.nps.gov/hamp). Printed copies (in limited quantity) and CDs can be requested by calling the park at (410) 823-1309. Printed hardcopies can be viewed at the following locations:

Hampton National Historic Site, 535 Hampton Lane, Towson, Maryland 21286;

Fort McHenry National and Historic Shrine, End of East Fort Avenue, Baltimore, Maryland 21230;

Towson Branch Library/Baltimore County Library, 320 York Avenue, Towson, Maryland 21204;

Baltimore County Tourism Office and Towson Chamber of Commerce, 44 West Chesapeake Avenue, Towson, Maryland 21204.

FOR FURTHER INFORMATION CONTACT: Gay Vietzke, Superintendent, Hampton National Historic Site, 535 Hampton Road, Towson, Maryland, 21286-1397, (410) 823-1309.

SUPPLEMENTARY INFORMATION: Consistent with National Park Service laws, regulations, and policies, and the purpose of the National Historic Site, the Draft GMP/EIS describes and analyzes three alternatives (1-3) to guide the management of the National Historic Site over the next 15 to 20 years. The alternatives incorporate various management prescriptions to ensure protection, access and enjoyment of the park's resources. Alternative 1, the no action alternative, proposes to maintain the current interpretive focus, visitor experience and management direction. Construction of a new collections storage building, that has begun, would be completed. Alternative 2: Experiencing the Past proposes to remove post-1948 development and consolidate administrative functions to recreate the feeling of the Hampton Estate near the end of its period of greatest significance. Historic structures and cultural landscapes would be rehabilitated, to the greatest extent possible, to facilitate this visitor experience. Alternative 3: Broadening the Hampton Experience, the NPS preferred alternative, proposes to expand the visitor experience to include the entire story of the park from the 18th century through today, to rehabilitate select historic structures and cultural landscapes for interpretation and to rehabilitate the remaining park historic and modern buildings for visitor services and park operations.

The Draft GMP/EIS evaluates potential environmental consequences of implementing the three alternatives. It describes the affected natural, cultural, scenic, and socioeconomic environments within and near the park and analyzes potential impacts on park resources and values. Resource impact topics analyzed include: cultural landscapes, historic structures, archeological resources, ethnography, wetlands, water quality, vegetation, wildlife, land use, visitor experience, and operations and maintenance.

If you wish to comment on the Draft GMP/EIS, you may submit your comments by any one of several methods. The preferred method to comment is to submit comments electronically through the NPS PEPC Web site at (http://parkplanning.nps.gov/hamp). You may also send written comments to Superintendent Gay Vietzke, Hampton National Historic Site, 535 Hampton Road, Towson, Maryland, 21286.

Before including your address, phone number, e-mail address, or other personal identifying information in your comment, you should be aware that your entire comment—including your personal identifying information—may be made publicly available at any time. While you can ask us in your comment to withhold your personal identifying information from public review, we cannot guarantee that we will be able to do so.

Dennis R. Reidenbach,
Regional Director, Northeast Region, National Park Service.

[FR Doc. 2010-25833 Filed 10-15-10; 8:45 am]

BILLING CODE 4312-56-P